DEPARTMENT OF THE INTERIOR

Bureau of Land Management

[AZ-320-06-5230-PH-1000-241A; 8340]

Arizona: Temporary Off-Highway Vehicle Restriction, Bureau of Land Management, Yuma Field Office

AGENCY: Bureau of Land Management, Interior.

ACTION: Notice of temporary off-highway vehicle restriction.

SUMMARY: This notice is to inform the public that the Bureau of Land Management (BLM) intends to temporarily restrict all forms of motorized travel within 122.02 acres of public land. The public lands affected by this temporary restriction are located in lots 1, 18, and 19, SE¼SW¼, and Tract 38, section 6, Township 11 South, Range 22 East, San Bernardino Meridian, Imperial County, California. Employees of the BLM and any other local, state, and Federal wildlife management, law enforcement, and fire protection personnel, while operating within the scope of their official duties, are exempt from this restriction. Access by additional parties may be allowed, but must be approved in advance in writing by the BLM Yuma Field Manager.

The BLM has issued this restriction by the authority provided in 43 Code of Federal Regulations 8341.2(a), 8364.1, and 9268.3, promulgated pursuant to the authority of the Federal Land Policy and Management Act of October 21, 1976, as amended (90 Stat. 2763; 43 United States Code 1732). The BLM is implementing this restriction to minimize damage to soil, watershed, vegetation, and cultural resources of the public lands. Violations of this restriction are punishable by a fine not to exceed $100,000 and/or imprisonment not to exceed 12 months as authorized by Title 18, United States Code, Sections 3571 and 3581.

DATES: The restriction will be in effect between June 2, 2006 and June 1, 2008.

FOR FURTHER INFORMATION CONTACT: Mark Lowans, Acting Associate Field Manager; BLM Yuma Field Office; 2555 East Gila Ridge Road; Yuma, AZ 85365; yfoweb_az@blm.gov; (928) 317-3210.

SUPPLEMENTARY INFORMATION: The temporary restriction involves public lands recently transferred from the U.S. Fish and Wildlife Service to the BLM Yuma Field Office's jurisdiction under Public Law 109-127, An Act to revoke a Public Land Order with respect to certain lands erroneously included in the Cibola National Wildlife Refuge, California (109th Congress, 12/07/2005). The temporary restriction will enable the BLM to inventory and assess the existing natural and cultural resources within these newly acquired 122.02 acres. Inventory and assessment data will then be used to determine the appropriate management of off-highway vehicle use in the area, which would be permanently implemented by June 2, 2008 according to BLM Resource Management Planning guidance in 43 Code of Federal Regulations subparts 1610 and 8342.

Dated: June 2, 2006.
Rebecca Heick,
Field Manager, Yuma.

[FR Doc. E6-12931 Filed 8-8-06; 8:45 am]

BILLING CODE 4310-32-P